DEPARTMENT OF TRANSPORTATION

Federal Aviation Administration

14 CFR Part 39

[Docket No. FAA-2025-0481; Project Identifier AD-2024-00614-T]

RIN 2120-AA64

Airworthiness Directives; The Boeing Company Airplanes

AGENCY: Federal Aviation Administration (FAA), DOT.

ACTION: Notice of proposed rulemaking (NPRM).

SUMMARY: The FAA proposes to supersede Airworthiness Directive (AD) 2023-09-04, which applies to certain The Boeing Company Model 737-600, -700, -700C, -800, -900, and -900ER series airplanes, and certain Model 737-8 and -9 airplanes. AD 2023-09-04 requires inspecting all escape slide assemblies to identify affected parts and replacing affected escape slide assemblies with different assemblies. Since the FAA issued AD 2023-09-04, it was determined that additional airplanes might be affected by the unsafe condition. This proposed AD would retain the requirements of AD 2023-09-04 and require those actions for additional airplanes, including Model 737-8200 airplanes. The FAA is proposing this AD to address the unsafe condition on these products.

DATES: The FAA must receive comments on this proposed AD by May 27, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0481; or in person at Docket Operations between 9 a.m. and 5 p.m., Monday through Friday, except Federal holidays. The AD docket contains this NPRM, any comments received, and other information. The street address for Docket Operations is listed above.

Material Incorporated by Reference:

• For the Boeing material identified in this proposed AD, contact Boeing Commercial Airplanes, Attention: Contractual & Data Services (C&DS), 2600 Westminster Blvd., MC 110-SK57, Seal Beach, CA 90740-5600; telephone 562-797-1717; website myboeingfleet.com.

• You may view this material at the FAA, Airworthiness Products Section, Operational Safety Branch, 2200 South 216th St., Des Moines, WA. For information on the availability of this material at the FAA, call 206-231-3195. It is also available at regulations.gov under Docket No. FAA-2025-0481.

FOR FURTHER INFORMATION CONTACT: Katherine Venegas, Aviation Safety Engineer, FAA, 3960 Paramount Boulevard, Lakewood, CA 90712; phone: 562-627-5353; email: katherine.venegas@faa.gov.

SUPPLEMENTARY INFORMATION:

Comments Invited

The FAA invites you to send any written relevant data, views, or arguments about this proposal. Send your comments to an address listed under the ADDRESSES section. Include “Docket No. FAA-2025-0481; Project Identifier AD-2024-00614-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Katherine Venegas, Aviation Safety Engineer, FAA, 3960 Paramount Boulevard, Lakewood, CA 90712; phone: 562-627-5353; email: katherine.venegas@faa.gov. Any commentary that the FAA receives that is not specifically designated as CBI will be placed in the public docket for this rulemaking.

Background

The FAA issued AD 2023-09-04, Amendment 39-22427 (88 FR 33817, May 25, 2023) (AD 2023-09-04), for certain The Boeing Company Model 737-600, -700, -700C, -800, -900, and -900ER series airplanes, and certain Model 737-8 and -9 airplanes. AD 2023-09-04 was prompted by reports of uncommanded escape slide deployments in the passenger compartment while the airplane was on the ground, caused by too much tension in the inflation cable (introduced during packing of the slide) and the movement of the escape slide assembly in the escape slide compartment during normal airplane operations. AD 2023-09-04 requires inspecting all escape slide assemblies to identify affected parts and replacing affected escape slide assemblies with different assemblies. The agency issued AD 2023-09-04 to address inflation of the escape slide while it is in the escape slide compartment, which could result in injury to passengers and crew during normal operation or impede an emergency evacuation by rendering the exit unusable.

Actions Since AD 2023-09-04 Was Issued

Since the FAA issued AD 2023-09-04, the FAA determined that additional airplanes might be affected by the unsafe condition. AD 2023-09-04 applies to airplanes identified by line number in Boeing Special Attention Requirements Bulletin 737-25-1855 RB, Revision 1, dated April 13, 2022; and Boeing Special Attention Requirements Bulletin 737-25-1866 RB, Revision 1, dated April 11, 2022. However, the FAA has determined that additional line-numbered airplanes, as well as Model 737-8200 airplanes, might have an affected escape slide assembly installed because the part is rotable. Since the affected parts are rotable, they could later be installed on airplanes that were initially delivered with acceptable parts, thereby creating an unsafe condition in those airplanes.

In addition, Boeing issued Special Attention Requirements Bulletin 737-25-1866 RB, Revision 2, dated July 19, 2024, to revise the applicable airplanes in the effectivity paragraph of Boeing Special Attention Requirements Bulletin 737-25-1866 RB, Revision 1, dated April 11, 2022.

The FAA proposes to retain the requirements of AD 2023-09-04 and also require that all Model 737-600, -700, -700C, -800, -900, and -900ER series airplanes and Model 737-8, 737-9, and 737-8200 airplanes that are excluded from the applicability of AD 2023-09-04 inspect all escape slide assemblies to identify affected parts and accomplish applicable on-condition actions. The FAA has determined that these actions can be accomplished using Boeing Special Attention Requirements Bulletin 737-25-1855 RB, Revision 1, dated April 13, 2022 (for all Model 737-600, -700, -700C, -800, -900, and -900ER series airplanes); and Boeing Special Attention Requirements Bulletin 737-25-1866 RB, Revision 1, dated April 11, 2022 (for all Model 737-8, 737-9, and 737-8200 airplanes), regardless of whether the airplane model or line number is identified in those bulletins.

FAA's Determination

The FAA is issuing this NPRM after determining that the unsafe condition described previously is likely to exist or develop on other products of the same type design.

Material Incorporated by Reference Under 1 CFR Part 51

The FAA reviewed Boeing Special Attention Requirements Bulletin 737-25-1866 RB, Revision 2, dated July 19, 2024. This material specifies procedures for inspecting all escape slide assemblies to identify any escape slide assembly having part number (P/N) 5A3307-7 and replacing it with an assembly having P/N 5A3307-9 or P/N 5A3307-701. Escape slide assembly P/N 5A3307-701 is one on which a firing cable retention has been modified and the assembly reidentified with a new part number.

This proposed AD would also require Boeing Special Attention Requirements Bulletin 737-25-1855 RB, Revision 1, dated April 13, 2022; and Boeing Special Attention Requirements Bulletin 737-25-1866 RB, Revision 1, dated April 11, 2022, which the Director of the Federal Register approved for incorporation by reference as of June 29, 2023 (88 FR 33817, May 25, 2023).

This material is reasonably available because the interested parties have access to it through their normal course of business or by the means identified in the ADDRESSES section.

Proposed AD Requirements in This NPRM

This proposed AD would retain all requirements of AD 2023-09-04. This proposed AD would also require those same actions for additional airplanes. For information on the procedures and compliance times, see this material at regulations.gov under Docket No. FAA-2025-0481.

Costs of Compliance

The FAA estimates that this AD, if adopted as proposed, would affect 2,666 airplanes of U.S. registry. The FAA estimates the following costs to comply with this proposed AD:

Estimated Costs
Action | Labor cost | Parts cost | Cost per product | Cost on U.S. operators
Inspection or maintenance records review (retained action from AD 2023-09-04) | 2 work-hours × $85 per hour = $170 | $0 | $170 | $425,340 (2,502 airplanes).
Inspection or maintenance records review (new proposed action) | 2 work-hours × $85 per hour = $170 | 0 | 170 | $27,880 (164 airplanes).

The FAA estimates the following costs to do any replacements that would be required based on the results of the proposed inspection. The agency has no way of determining the number of aircraft that might need these replacements:

On-Condition Costs
Action | Labor cost | Parts cost | Cost per product
Replacement | Up to 1 work hour × $85 per hour = up to $85 | Up to $19,000 | Up to $19,085 per escape slide assembly.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2023-09-04, Amendment 39-22427 (88 FR 33817, May 25, 2023); and

b. Adding the following new airworthiness directive:

The Boeing Company: Docket No. FAA-2025-0481; Project Identifier AD-2024-00614-T.

(a) Comments Due Date

The FAA must receive comments on this airworthiness directive (AD) by May 27, 2025.

(b) Affected ADs

This AD replaces AD 2023-09-04, Amendment 39-22427 (88 FR 33817, May 25, 2023) (AD 2023-09-04).

(c) Applicability

This AD applies to The Boeing Company Model 737-600, -700, -700C, -800, -900, and -900ER series airplanes, and Model 737-8, 737-9, and 737-8200 airplanes, certificated in any category.

(d) Subject

Air Transport Association (ATA) of America Code 25, Equipment/furnishings.

(e) Unsafe Condition

This AD was prompted by reports of uncommanded escape slide deployments in the passenger compartment, caused by too much tension in the inflation cable and the movement of the escape slide assembly in the escape slide compartment. The FAA is issuing this AD to address inflation of the escape slide while it is in the escape slide compartment, which could result in injury to passengers and crew during normal operation, or impede an emergency evacuation by rendering the exit unusable.

(f) Compliance

Comply with this AD within the compliance times specified, unless already done.

(g) Retained Inspection, With No Changes

This paragraph restates the requirements of paragraph (g) of AD 2023-09-04, with no changes. For airplanes identified in Boeing Special Attention Requirements Bulletin 737-25-1855 RB, Revision 1, dated April 13, 2022; and Boeing Special Attention Requirements Bulletin 737-25-1866 RB, Revision 1, dated April 11, 2022: Except as specified in paragraph (i) of this AD, at the applicable times specified in the “Compliance” paragraph of Boeing Special Attention Requirements Bulletin 737-25-1855 RB, Revision 1, dated April 13, 2022, and Boeing Special Attention Requirements Bulletin 737-25-1866 RB, Revision 1, dated April 11, 2022, do all applicable actions identified in, and in accordance with, the Accomplishment Instructions of Boeing Special Attention Requirements Bulletin 737-25-1855 RB, Revision 1, dated April 13, 2022 (for Model 737-600, -700, -700C, -800, -900, and -900ER series airplanes); and Boeing Special Attention Requirements Bulletin 737-25-1866 RB, Revision 1, dated April 11, 2022 (for Model 737-8 and -9 airplanes); as applicable.

Note 1 to paragraph (g): Guidance for accomplishing the actions required by paragraph (g) of this AD can be found in Boeing Special Attention Service Bulletin 737-25-1855, Revision 1, dated April 13, 2022, which is referred to in Boeing Special Attention Requirements Bulletin 737-25-1855 RB, Revision 1, dated April 13, 2022.

Note 2 to paragraph (g): Guidance for accomplishing the actions required by paragraph (g) of this AD can be found in Boeing Special Attention Service Bulletin 737-25-1866, Revision 1, dated April 11, 2022, which is referred to in Boeing Special Attention Requirements Bulletin 737-25-1866 RB, Revision 1, dated April 11, 2022.

(h) New Required Actions

For airplanes not identified in Boeing Special Attention Requirements Bulletin 737-25-1855 RB, Revision 1, dated April 13, 2022; or Boeing Special Attention Requirements Bulletin 737-25-1866 RB, Revision 1, dated April 11, 2022: Except as specified in paragraph (i) of this AD, at the applicable times specified in the “Compliance” paragraph of Boeing Special Attention Requirements Bulletin 737-25-1855 RB, Revision 1, dated April 13, 2022, and Boeing Special Attention Requirements Bulletin 737-25-1866 RB, Revision 2, dated July 19, 2024, do all applicable actions identified in, and in accordance with, the Accomplishment Instructions of Boeing Special Attention Requirements Bulletin 737-25-1855 RB, Revision 1, dated April 13, 2022 (for Model 737-600, -700, -700C, -800, -900, and -900ER series airplanes), and Boeing Special Attention Requirements Bulletin 737-25-1866 RB, Revision 2, dated July 19, 2024 (for Model 737-8, 737-9, and 737-8200 airplanes); as applicable.

Note 3 to paragraph (h): Guidance for accomplishing the actions required by paragraph (h) of this AD can be found in Boeing Special Attention Service Bulletin 737-25-1855, Revision 1, dated April 13, 2022, which is referred to in Boeing Special Attention Requirements Bulletin 737-25-1855 RB, Revision 1, dated April 13, 2022.

Note 4 to paragraph (h): Guidance for accomplishing the actions required by paragraph (h) of this AD can be found in Boeing Special Attention Service Bulletin 737-25-1866, Revision 2, dated July 19, 2024, which is referred to in Boeing Special Attention Requirements Bulletin 737-25-1866 RB, Revision 2, dated July 19, 2024.

(i) Exceptions to Requirements Bulletin Specifications

(1) For paragraph (g) of this AD: Where the Compliance Time columns of the tables in the “Compliance” paragraph of Boeing Special Attention Requirements Bulletin 737-25-1855 RB, Revision 1, dated April 13, 2022, use the phrase “the Original Issue date of Requirements Bulletin 737-25-1855 RB,” this AD requires using June 29, 2023 (the effective date of AD 2023-09-04).

(2) For paragraph (g) of this AD: Where the Compliance Time columns of the tables in the “Compliance” paragraph of Boeing Special Attention Requirements Bulletin 737-25-1866 RB, Revision 1, dated April 11, 2022, use the phrase “the Original Issue date of Requirements Bulletin 737-25-1866 RB,” this AD requires using June 29, 2023 (the effective date of AD 2023-09-04).

(3) For paragraph (h) of this AD: Where the Compliance Time columns of the tables in the “Compliance” paragraph of Boeing Special Attention Requirements Bulletin 737-25-1855 RB, Revision 1, dated April 13, 2022, use the phrase “the Original Issue date of Requirements Bulletin 737-25-1855 RB,” this AD requires using the effective date of this AD.

(4) For paragraph (h) of this AD: Where the Compliance Time columns of the tables in the “Compliance” paragraph of Boeing Special Attention Requirements Bulletin 737-25-1866 RB, Revision 2, dated July 19, 2024, use the phrase “the Original Issue date of Requirements Bulletin 737-25-1866 RB,” this AD requires using the effective date of this AD.

(5) Where Boeing Special Attention Requirements Bulletin 737-25-1855 RB, Revision 1, dated April 13, 2022; Boeing Special Attention Requirements Bulletin 737-25-1866 RB, Revision 1, dated April 11, 2022; and Boeing Special Attention Requirements Bulletin 737-25-1866 RB, Revision 2, dated July 19, 2024, specify doing an inspection of the escape slide assembly to determine whether P/N 5A3307-7 is installed, for this AD a review of airplane maintenance records is acceptable in lieu of this inspection, provided the part number of the escape slide assembly can be conclusively determined from that review.

(j) Credit for Previous Actions

(1) This paragraph provides credit for the actions specified in paragraph (g) of this AD, if those actions were performed before June 29, 2023 (the effective date of AD 2023-09-04) using Boeing Special Attention Requirements Bulletin 737-25-1855 RB, dated August 31, 2021, or Boeing Special Attention Requirements Bulletin 737-25-1866 RB, dated September 27, 2021, as applicable.

(2) This paragraph provides credit for the actions specified in paragraph (h) of this AD, if those actions were performed before the effective date of this AD using Boeing Special Attention Requirements Bulletin 737-25-1855 RB, dated August 31, 2021; Boeing Special Attention Requirements Bulletin 737-25-1866 RB, dated September 27, 2021; or Boeing Special Attention Requirements Bulletin 737-25-1866 RB, Revision 1, dated April 11, 2022; as applicable.

(k) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (l)(1) of this AD. Information may be emailed to: AMOC@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(4) AMOCs approved for AD 2023-09-04 are approved as AMOCs for the corresponding provisions of paragraph (g) of this AD.

(l) Related Information

(1) For more information about this AD, contact Katherine Venegas, Aviation Safety Engineer, FAA, 3960 Paramount Boulevard, Lakewood, CA 90712; phone: 562-627-5353; email: katherine.venegas@faa.gov.

(2) Material identified in this AD that is not incorporated by reference is available at the address specified in paragraph (m)(5) this AD.

(m) Material Incorporated by Reference

(1) The Director of the Federal Register approved the incorporation by reference (IBR) of the material listed in this paragraph under 5 U.S.C. 552(a) and 1 CFR part 51.

(2) You must use this material as applicable to do the actions required by this AD, unless the AD specifies otherwise.

(3) The following material was approved for IBR on [DATE 35 DAYS AFTER PUBLICATION OF THE FINAL RULE].

(i) Boeing Special Attention Requirements Bulletin 737-25-1866 RB, Revision 2, dated July 19, 2024.

(ii) [Reserved]

(4) The following material was approved for IBR on June 29, 2023 (88 FR 33817, May 25, 2023).

(i) Boeing Special Attention Requirements Bulletin 737-25-1855 RB, Revision 1, dated April 13, 2022.

(ii) Boeing Special Attention Requirements Bulletin 737-25-1866 RB, Revision 1, dated April 11, 2022.

(5) For the material identified in this AD, contact Boeing Commercial Airplanes, Attention: Contractual & Data Services (C&DS), 2600 Westminster Blvd., MC 110-SK57, Seal Beach, CA 90740-5600; telephone 562-797-1717; website myboeingfleet.com.

(6) You may view this material at the FAA, Airworthiness Products Section, Operational Safety Branch, 2200 South 216th St., Des Moines, WA. For information on the availability of this material at the FAA, call 206-231-3195.

(7) You may view this material at the National Archives and Records Administration (NARA). For information on the availability of this material at NARA, visit www.archives.gov/federal-register/cfr/ibr-locations or email fr.inspection@nara.gov.

Issued on March 24, 2025.
Victor Wicklund,
Deputy Director, Integrated Certificate Management Division, Aircraft Certification Service.

[FR Doc. 2025-06123 Filed 4-9-25; 8:45 am]

BILLING CODE 4910-13-P